DEPARTMENT OF LABOR

Employment and Training Administration

[TA-W-62,022]

Irwin Industrial Tools Including On-Site Leased Workers From Work-A-While, Advance Services, Inc. and Oasis Staffing Dewitt, Nebraska; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on August 31, 2007, applicable to workers of Irwin Industrial Tools, including on-site leased workers from Work-A-While and Advance Services, Inc., Dewitt, Nebraska. The notice was published in the Federal Register on September 11, 2007 (72 FR 51845).

At the request of the State agency, the Department reviewed the certification for workers of the subject firm. The workers are engaged in the production of VISE-GRIP locking pliers and clamps.

New information shows that leased workers of Oasis Staffing were employed on-site at the Dewitt, Nebraska location of Irwin Industrial Tools.

The Department has determined that these workers were sufficiently under the control of the subject firm to be considered leased workers.

Based on these findings, the Department is amending this certification to include leased workers of Oasis Staffing working on-site at the Dewitt, Nebraska location of the subject firm.

The intent of the Department's certification is to include all workers employed at Irwin Industrial who were adversely affected by a shift in production of VISE-GRIP locking pliers and clamps to China.

The amended notice applicable to TA-W-62,022 is hereby issued as follows:

“All workers of Irwin Industrial Tools, including on-site leased workers from Work-A-While, Advance Services, Inc. and Oasis Staffing, Dewitt, Nebraska, who became totally or partially separated from employment on or after August 21, 2006, through August 31, 2009, are eligible to apply for adjustment assistance under Section 223 of the Trade Act of 1974, and are also eligible to apply for alternative trade adjustment assistance under Section 246 of the Trade Act of 1974.”

Signed at Washington, DC this 10th day of September 2008.
Linda G. Poole,
Certifying Officer, Division of Trade Adjustment Assistance.

[FR Doc. E8-21840 Filed 9-17-08; 8:45 am]

BILLING CODE 4510-FN-P